DEPARTMENT OF THE INTERIOR

Bureau of Land Management

[AZA 18099]

Public Land Order No. 7493; Partial Revocation of Secretarial Order Dated July 8, 1935; Arizona

AGENCY: Bureau of Land Management, Interior.

ACTION: Public land order.

SUMMARY: This order partially revokes a Secretarial Order insofar as it affects 120 acres withdrawn for use by the Bureau of Indian Affairs. The Bureau of Indian Affairs no longer has a need for the land and has requested the revocation so the land can be returned to the Tohono O'odham Nation. The land is within the Tohono O'odham Nation and will remain closed.

EFFECTIVE DATE: August 22, 2001.

FOR FURTHER INFORMATION CONTACT: Cliff Yardley, BLM Arizona State Office, 222 North Central Avenue, Phoenix, Arizona 85004-2203, 602-417-9437.

SUPPLEMENTARY INFORMATION: By virtue of the authority vested in the Secretary of the Interior by Section 204 of the Federal Land Policy and Management Act of 1976, 43 U.S.C. 1714 (1994), it is ordered as follows:

1. The Secretarial Order dated July 8, 1935, which withdrew land for use by the Bureau of Indian Affairs, is hereby revoked insofar as it affects the following described land:

Gila and Salt River Meridian

T. 17 S., R. 4 E.,

Sec. 25, S½SW¼ and SW¼SE¼.

The area described contains 120 acres in Pima County.

2. The land is located within the Tohono O'odham Nation and will remain closed.

Dated: August 6, 2001.
J. Steven Griles,
Deputy Secretary.

[FR Doc. 01-21116 Filed 8-21-01; 8:45 am]

BILLING CODE 4310-02-P